DEPARTMENT OF ENERGY

Federal Energy Regulatory Commission

Notice of FERC Staff Attendance at Southwest Power Pool Board of Directors/Members Committee Meeting and Southwest Power Pool Regional State Committee Meeting

April 3, 2008.

The Federal Energy Regulatory Commission hereby gives notice that members of its staff may attend the meetings of the Southwest Power Pool (SPP) Regional State Committee Board of Directors, SPP Members Committee and SPP Board of Directors as noted below. Their attendance is part of the Commission's ongoing outreach efforts.

SPP Regional State Committee Meeting

April 21, 2008 (1 p.m.-5 p.m.), The Skirvin Hilton, 1 Park Ave., Oklahoma City, OK 73102, 405-272-3040.

SPP Board of Directors/Members Committee

April 22, 2008 (8:30 a.m.-3 p.m.), The Skirvin Hilton, 1 Park Ave., Oklahoma City, OK 73102, 405-272-3040.

The discussions may address matters at issue in the following proceedings:

Docket No. ER06-451, Southwest Power Pool, Inc.

Docket No. EL06-71, Associated Electric Cooperative, Inc. v. Southwest Power Pool.

Docket Nos. ER07-319 and EL07-73, Southwest Power Pool, Inc.

Docket No. ER07-371, Southwest Power Pool, Inc.

Docket No. EL07-27, East Texas Electric Cooperative, Inc., et al. and Docket No. ER07-396, Southwest Power Pool, Inc.

Docket No. ER07-1255, Southwest Power Pool, Inc.

Docket No. ER07-1311, Southwest Power Pool, Inc.

Docket No. ER08-340, Southwest Power Pool, Inc.

Docket No. ER08-477, Southwest Power Pool, Inc.

Docket No. ER08-684, Southwest Power Pool, Inc.

Docket No. OA08-5, Southwest Power Pool, Inc.

Docket No. OA08-60, Southwest Power Pool, Inc.

Docket No. OA08-61, Southwest Power Pool, Inc.

These meetings are open to the public.

For more information, contact Patrick Clarey, Office of Energy Market Regulation, Federal Energy Regulatory Commission at (317) 249-5937 or patrick.clarey@ferc.gov.

Kimberly D. Bose,
Secretary.

[FR Doc. E8-7600 Filed 4-9-08; 8:45 am]

BILLING CODE 6717-01-P